DEPARTMENT OF ENERGY

Federal Energy Regulatory Commission

[Project No. 1904-073]

TransCanada Hydro Northeast Inc.; Notice of Technical Conference and Environmental Site Review

TransCanada Hydro Northeast Inc. (TransCanada) is currently using the Integrated Licensing Process to prepare an application for a new license (due to be filed on April 30, 2016) for the Vernon Hydroelectric Project No. 1904-73 (Vernon Project). The 32.4-megawatt Vernon Project is located on the Connecticut River in Cheshire County, New Hampshire and Windsor and Windham Counties, Vermont. On February 21, 2014, the Director of the Office of Energy Projects issued a Study Plan Determination requiring TransCanada to conduct 21 studies, including the development of a plan to conduct hydroacoustic studies of downstream passage of juvenile American shad and adult American eel. On March 24, 2014, TransCanada filed a request for rehearing of the requirement to conduct hydroacoustic studies, which is currently pending before the Commission.

On September 15, 2014, TransCanada filed its proposed Vernon Hydroacoustic Study Plan. To gather additional information and assist the Commission in its review of the proposed study, Commission staff will hold a technical conference on November 20, 2014. The technical conference will focus on discussing the information and studies needed to evaluate downstream passage of juvenile American shad and adult American eel at the Vernon Project, including the methods proposed in TransCanada's Vernon Hydroacoustic Study Plan. Discussion topics for the technical conference are included in Appendix A.

In addition to the technical conference, Commission staff will hold an environmental site review of the Vernon Project on November 19, 2014. All local, state, and federal agencies, Indian tribes, and other interested parties are invited to attend the site review and technical conference. The technical conference will be transcribed by a court reporter. If the number of participants wishing to speak at the technical conference creates time constraints, Commission staff may, at its discretion, limit the speaking time of participants. The dates, times, and meeting locations for the site review and technical conference are listed below.

Site Review

Date: Wednesday, November 19, 2014.

Time: 2:00 p.m.

Place: 152 Governor Hunt Road, Vernon, VT 05354.

Technical Conference

Date: Thursday, November 20, 2014.

Time: 9:00 a.m.-4:00 p.m.

Place: The Emerson Room, Courtyard Keene Downtown, 75 Railroad Street, Keene, NH 03431.

If you plan to attend the site review, you must call or email John Ragonese (phone: (603) 225-5528; email: john_ragonese@transcanada.com) by November 17, 2014, and identify the number of individuals in your group. During the site review, participants will be required to wear steel-toed shoes. A limited number of toe protection devices will be available, but participants are strongly encouraged to bring their own.

If you have any questions, please contact Bill Connelly at 202-502-8587.

Dated: October 31, 2014.
Nathaniel J. Davis, Sr.,
Deputy Secretary.

APPENDIX A

Technical Conference Discussion Topics

Information Needs

1. Timing of juvenile American shad and adult American eel runs.

2. Relative abundance and/or magnitude of juvenile American shad and adult American eel runs.

3. Delay of juvenile American shad and adult American eel downstream passage.

4. Downstream passage route selection by juvenile American shad and adult American eel.

Study Methods

1. Radio telemetry or other individual tracking technologies: What information can be obtained with these methods? What are the benefits of using these methods? What are the drawbacks?

2. Hydroacoustics and other fixed recording technologies: What information can be obtained with these methods? What are the benefits of using these methods? What are the drawbacks?

3. Other study methods: Are there other study methods that could be used to obtain information about downstream passage of juvenile American shad and adult American eel? What are the benefits of using these methods? What are the drawbacks?

[FR Doc. 2014-26572 Filed 11-7-14; 8:45 am]

BILLING CODE 6717-01-P